DEPARTMENT OF ENERGY

Environmental Management Site-Specific Advisory Board, Idaho

AGENCY: Department of Energy.

ACTION: Notice of Open Meeting.

SUMMARY: This notice announces a meeting of the Environmental Management Site-Specific Advisory Board (EM SSAB), Idaho. Federal Advisory Committee Act (Pub. L. No. 92-463, 86 Stat. 770) requires that public notice of these meeting be announced in the Federal Register.

DATES: Tuesday, November 14, 2000—8 a.m.-6 p.m.

Wednesday, November 15, 2000—8 a.m.-5 p.m.

Public participation sessions will be held on:

Tuesday, November 14, 2000—12:15-12:30 p.m., 5:45-6 p.m.

Wednesday, November 15, 2000—11:45-12 noon, 4-4:15 p.m.

These times are subject to change as the meeting progresses, please check with the meeting facilitator.

ADDRESSES: Ameritel Inn, 645 Lindsay Boulevard, Idaho Falls, Idaho.

FOR FURTHER INFORMATION CONTACT: Ms. Wendy Lowe, INEEL Cab Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda: (Agenda topics may change up to the day of the meeting. Please contact Jason Associates for the most current agenda or visit the CAB's Internet site at www.ida.net/users/cab).

Presentations on the following:

• Natural and biological resources at the INEEL

• Closure Plan for the New Waste Calcining Facility

• Shoshone-Bannock Tribes perspectives and concerns regarding the INEEL

• Fiscal Year 2001 budget for DOE-ID

• DOE's budget process

• How DOE determines shipping schedules for radioactive waste

Briefings on the following:

• Preferred alternative for the Idaho High-Level Waste and Facilities Disposition Environmental Impact Statement

• Status of Stage II at Pit 9

Presentation and Recommendation Finalization of the following:

• Proposed Plan for Groundwater Remediation at Test Area North

• Upcoming transition in DOE leadership and the role of the INEEL CAB

• Plans for rehabilitation/revegetation of burned areas on the INEEL

Discussion of the following:

• End states for Waste Area Group 7

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC on October 17, 2000.
Rachel Samuel,
Deputy Advisory Committee Management Officer.

[FR Doc. 00-27226 Filed 10-23-00; 8:45 am]

BILLING CODE 6450-01-P